ENVIRONMENTAL PROTECTION AGENCY

[FRL 7372-8]

Chesapeake Bay Program—Fiscal Year 2003 Supplemental Request for Initial Proposals (RFIP)

The U.S. Environmental Protection Agency (EPA) Chesapeake Bay Program (CBP) is issuing a Supplemental Requests for Initial Proposals (RFIP) to implement a specific outcome that will further goals of the Chesapeake 2000 agreement. One project received no responses in the first Request for Initial Proposals (RFIP) dated May 29, 2002, therefore this supplemental RFIP is being issued. Up to $75,000 dollars may be available for Fiscal Year 2003 for implemental of activities to protect and restore the Chesapeake Bay. Any non-profit organization, federal, state or local government agency, interstate agency, college or university is eligible to submit proposals in response to this Request for Initial Proposals. Funding will be provided to an applicant under the authority of the Clean Water Act, Section 117.

The RFIP will be available starting September 3, 2002 at the following Web site: http://www.gov/r3chespk/ You may also request a copy by calling Robert Schewack at 410-267-9856 or by e-mail at shewack.bob@epa.gov All proposals must be postmark NLT September 17, 2002.

Diana Esher,
Deputy Director, Chesapeake Bay Program Office.

[FR Doc. 02-22812 Filed 9-6-02; 8:45 am]

BILLING CODE 6560-50-M